DEPARTMENT OF STATE

[Public Notice 5695]

Notice of Meeting of the Cultural Property Advisory Committee

There will be a meeting of the Cultural Property Advisory Committee on Thursday, March 15, 2007, from approximately 8:30 a.m. to 5 p.m., and on Friday, March 16, from approximately 8:30 a.m. to 3 p.m., at the Department of State, Annex 44, Room 840, 301 4th St., SW., Washington, DC. During its meeting the Committee will review a proposal to extend the Memorandum of Understanding Between the Government of the United States of America and the Government of the Republic of Guatemala Concerning the Imposition of Import Restrictions on Archaeological Objects and Materials from the Pre-Hispanic Cultures of Guatemala, and a proposal to extend the Memorandum of Understanding Between the Government of the United States of America and the Government of the Republic of Mali Concerning the Imposition of Import Restrictions on Archaeological Material from the Region of the Niger River Valley and the Bandiagara Escarpment (Cliff). The concerned Governments have each notified the Government of the United States of America of their interest in extending the respective MOU.

The Committee's responsibilities are carried out in accordance with provisions of the Convention on Cultural Property Implementation Act (19 U.S.C. 2601 et seq.). The text of the Act and subject Memoranda of Understanding, as well as related information, may be found at http://exchanges.state.gov/culprop. Portions of the meeting on March 15 and 16 will be closed pursuant to 5 U.S.C. 552b(c)(9)(B) and 19 U.S.C. 2605(h). However, on March 15, the Committee will hold an open session from approximately 9:30 a.m. to 11 a.m., to receive oral public comment on the proposals to extend. Persons wishing to attend this open session should notify the Cultural Heritage Center of the Department of State at (202) 453-8800 no later than March 7, 2007, 5 p.m. (EST) to arrange for admission. Seating is limited.

Anyone wishing to make an oral presentation at the public session must request to be scheduled, must state which MOU—Mali or Guatemala—the presentation will address, and must submit a written text of the oral comments by March 7, 2007, to allow time for distribution to Committee members prior to the meeting. Oral comments will be limited to allow time for questions from members of the Committee and must specifically relate to the determinations under Section 303(a)(1) of the Convention on Cultural Property Implementation Act, 19 U.S.C. 2602, pursuant to which the Committee must make findings. This citation for the determinations can be found at the Web site noted above.

The Committee also invites written comments and asks that they be submitted no later than March 7, 2007, to allow time for distribution to Committee members prior to the meeting. All written materials, including the written texts of oral statements, may be faxed to (202) 453-8803. If more than three (3) pages, 20 duplicates of written materials must be sent by express mail to: Cultural Heritage Center, Department of State, Annex 44, 301 4th Street, SW., Washington, DC 20547; tel: (202) 453-8800.

Dina Habib Powell,
Assistant Secretary for Educational and Cultural Affairs, Department of State.

[FR Doc. E7-3368 Filed 2-26-07; 8:45 am]

BILLING CODE 4710-05-P